DEPARTMENT OF TRANSPORTATION

Federal Aviation Administration

14 CFR Part 71

[Docket No. FAA-2022-0941; Airspace Docket No. 21-AEA-27]

RIN 2120-AA66

Proposed Amendment and Establishment of Area Navigation (RNAV) Routes; Northeast United States

AGENCY: Federal Aviation Administration (FAA), DOT.

ACTION: Notice of proposed rulemaking (NPRM).

SUMMARY: This action proposes to amend three low altitude Area Navigation (RNAV) routes (T-routes), and establish three T-routes to augment the VHF Omnidirectional Range (VOR) Minimum Operational Network (MON) Program. The purpose is to enhance the efficiency of the National Airspace System (NAS) by transitioning from a ground-based to a satellite-based navigation system.

DATES: Comments must be received on or before September 29, 2022.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2022-0941; Airspace Docket No. 21-AEA-27 at the beginning of your comments. You may also submit comments through the internet at www.regulations.gov.

FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the northeast United States and improve the efficient flow of air traffic within the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0941; Airspace Docket No. 21-AEA-27) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-0941; Airspace Docket No. 21-AEA-27.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 to amend three low altitude RNAV T-routes, and establish six T-routes in the northeast United States to augment the VOR MON Program.

T-216: T-216 extends from the Philipsburg, PA (PSB), VHF Omnidirectional Range and Tactical Air Navigational System (VORTAC) to the Nantucket, MA (ACK), VHF Omnidirectional Range/Distance Measuring Equipment (VOR/DME). This proposal would amend the route description by replacing the Williamsport, PA (FQM), VOR/DME with the LYKOM, PA, waypoint (WP). Also, the wording “The airspace within R-4105 is excluded during times of use” would be removed from the description because restricted area R-4105 has been revoked by the FAA and is no longer in effect. There are no other changes to T-216.

T-440: T-440 is a proposed new route that would extend from the STUBN, NY, WP to the TALLI, PA, WP. T-440 would overlay VOR Federal airway V-147 from the STUBN WP to the WLKES, PA, WP. The WLKES WP would replace the Wilkes-Barre, PA (LVZ), VORTAC. T-440 would also overlay airway V-116 from the WLKES WP to the TALLI, PA, WP (located 26 nautical miles east of the Wilkes-Barre VORTAC).

T-449: T-449 is a proposed new route that would extend from the KITHE, PA, Fix, to the Binghamton, NY (CFB), VOR/DME. The route would overlay a portion of airway V-499 from the KITHE Fix to the Binghamton VOR/DME. The HEXSN, PA, WP would replace the Lancaster, PA (LRP), VOR/DME in the route description.

T-454: T-454 is a proposed new route that would extend from the SCAAM, PA, WP to the NWTON, NJ, WP. The route would overlay a portion of airway V-226 from the FAVUM, PA, WP to the NWTON, NJ, WP. In the route description, WPs would be used in place of the following navigation aids: The LYCOM, PA, WP replaces the Williamsport, PA (FQM), VOR/DME. The WLKES, PA, WP replaces the Wilkes-Barre, PA (LVZ), VORTAC. The NWTON, NJ, WP replaces the Stillwater, NJ (STW), VOR/DME.

T-634: T-634 is a Canadian RNAV route that extends between the Syracuse, NY (SYR), VORTAC and the VIBRU, NY, WP. The FAA proposes to expand T-634 south and eastward from Syracuse to the Sandy Point, RI (SEY), VOR/DME. The order of points in the route description would be amended to begin at the VIBRU, NY WP. The following points would be added after Syracuse: STODA, NY, Fix; RAHKS, NY, WP; DANZI, NY, WP; WEETS, NY, Fix; Kingston, NY (IGN), VOR/DME; CASSH, NY, Fix; BIZEX, NY, WP; CREAM, NY, Fix and Sandy Point, RI (SEY), VOR/DME. The PAGER, NY, and BRUIN, NY WPs would be removed from the description because they don't mark a turn point in the route. T-634 would overlay portions of airway V-483 from Syracuse to BIZEX. It would overlay V-374 from BIZEX to CREAM; and overlay V-34 from CREAM to Sandy Point. In the route description, the RAHKS, NY, WP would replace the Rockdale, NY (RKA), VOR/DME.

T-705: T-705 is a Canadian RNAV route that extends into U.S. airspace between the DANZI, NY, WP and the MUTNA, NY, WP. The FAA proposes to extend T-705 generally eastward to the Nantucket, MA (ACK), VOR/DME. The DANZI WP would be removed from the route at air traffic control request. Thus, the proposed eastward expansion of the route to Nantucket would begin at the CODDI, NY, Fix instead of DANZI. As amended, the route would begin at the Nantucket VOR/DME, then pass through the following added points: LIBBE, NY, Fix; ORCHA, NY, WP; Calverton, NY (CCC), VOR/DME; BELTT, NY, WP; EEGOR, CT, WP; LOVES, CT, WP; PAWLN, NY, WP; CYPER, NY, Fix. From the CYPER Fix, T-705 would proceed to the CODDI, NY, Fix where the remainder of the route would continue to the MUTNA, NY, WP as currently charted, except for the following changes. The following points would be removed because they don't mark a turn point on the route: MILID, NY, Fix; USICI, NY, WP; GACKE, NY, WP; BECKS, NY, WP; SMAIR, NY, WP; FOSYU, NY, WP; and UUBER, NY, WP. In the route description, the PAWLN, NY, WP would replace the Pawling, NY (PWL), VOR/DME.

The amended route would overlay portions of airway V-46 from Nantucket to Calverton. It would overlay airway V-44 from the BELTT WP to the PAWLN WP. As amended, T-705 would extend from Nantucket, MA, to MUTNA, NY.

United States Area Navigation (RNAV) routes are published in paragraph 6011, and Canadian Area Navigation routes are published in paragraph 6013, respectively, of FAA Order JO 7400.11F, dated August 10, 2021, and effective September 15, 2021, which is incorporated by reference in 14 CFR 71.1. The RNAV routes listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 14 CFR 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-216 Philipsburg, PA (PSB) to Nantucket, MA (ACK) [Amended]
Philipsburg, PA (PSB) | VORTAC | (Lat. 40°54′58.53″ N, long. 077°59′33.78″ W)
LYKOM, PA | WP | (Lat. 41°20′18.75″ N, long. 076°46″ 30.30″ W)
ELEXY, PA | WP | (Lat. 41°25′53.71″ N, long. 076°07″ 35.20″ W)
LAAYK, PA | FIX | (Lat. 41°28′32.64″ N, long. 075°28″ 57.31″ W)
HELON, NY | FIX | (Lat. 41°40′02.72″ N, long. 074°16″ 49.52″ W)
Kingston, NY (IGN) | VOR/DME | (Lat. 41°39′55.62″ N, long. 073°49″ 20.01″ W)
MOONI, CT | FIX | (Lat. 41°37′53.28″ N, long. 073°19″ 19.43″ W)
Hartford, CT (HFD) | VOR/DME | (Lat. 41°38′27.98″ N, long. 072°32″ 50.70″ W)
Groton, CT (GON) | VOR/DME | (Lat. 41°19′49.45″ N, long. 072°03′07.14″ W)
Sandy Point, RI (SEY) | VOR/DME | (Lat. 41°10′02.77″ N, long. 071°34′33.91″ W)
Nantucket, MA (ACK) | VOR/DME | (Lat. 41°16′54.79″ N, long. 070°01′36.16″ W)
* * * * * * *
T-440 STUBN, NY to TALLI, PA [New]
STUBN, NY | WP | (Lat. 42°05′38.58″ N, long. 077°01′28.68″ W)
WLKES, PA | WP | (Lat. 41°16′22.57″ N, long. 075°41′21.60″ W)
TALLI, PA | WP | (Lat. 41°19′01.60″ N, long. 075°06′43.17″ W)
* * * * * * *
T-449 KITHE, PA to Binghamton, NY (CFB) [New]
KITHE, PA | FIX | (Lat. 39°48′35.53″ N, long. 076°17′48.12″ W)
HEXSN, PA | WP | (Lat. 40°07′12.46″ N, long. 076°17′28.38″ W)
Binghamton, NY (CFB) | VOR/DME | (Lat. 42°09′26.97″ N, long. 076°08′11.30″ W)
* * * * * * *
T-454 SCAAM, PA to NWTON, NJ [New]
SCAAM, PA | WP | (Lat. 41°11′37.46″ N, long. 077°58′15.20″ W)
FAVUM, PA | WP | (Lat. 41°15′59.17″ N, long. 077°35′42.32″ W)
LYKOM, PA | WP | (Lat. 41°20′18.75″ N, long. 076°46′30.30″ W)
WLKES, PA | WP | (Lat. 41°16′22.57″ N, long. 075°41′21.60″ W)
NWTON, NJ | WP | (Lat. 40°59′45.19″ N, long. 074°52′09.21″ W)
* * * * * * *

Paragraph 6013 Canadian Area Navigation Routes.

* * * * *

T-634 VIBRU, NY to Sandy Point, RI (SEY) [Amended]
VIBRU, NY | WP | (Lat. 44°20′21.30″ N, long. 076°01′19.96″ W)
Watertown, NY (ART) | VORTAC | (Lat. 43°57′07.67″ N, long. 076°03′52.66″ W)
Syracuse, NY (SYR) | VORTAC | (Lat. 43°09′37.87″ N, long. 076°12′16.41″ W)
STODA, NY | FIX | (Lat. 43°07′00.20″ N, long. 075°51′21.23″ W)
RAHKS, NY | WP | (Lat. 42°27′59.28″ N, long. 075°14′21.68″ W)
DANZI, NY | WP | (Lat. 42°10′41.86″ N, long. 074°57′24.19″ W)
WEETS, NY | FIX | (Lat. 41°51′26.98″ N, long. 074°11′51.51″ W)
Kingston, NY (IGN) | VOR/DME | (Lat. 41°39′55.62″ N, long. 073°49′20.01″ W)
CASSH, NY | FIX | (Lat. 41°35′38.16″ N, long. 073°42′17.07″ W)
BIZEX, NY | WP | (Lat. 41°17′02.86″ N, long. 073°34′50.20″ W)
CREAM, NY | FIX | (Lat. 41°08′55.85″ N, long. 072°31′18.32″ W)
Sandy Point, RI (SEY) | VOR/DME | (Lat. 41°10′02.77″ N, long. 071°34′33.91″ W)
* * * * * * *
T-705 Nantucket, MA (ACK) to MUTNA, NY [Amended]
Nantucket, MA (ACK) | VOR/DME | (Lat. 41°16′54.79″ N, long. 070°01′36.16″ W)
LIBBE, NY | FIX | (Lat. 41°00′15.86″ N, long. 071°21′20.34″ W)
ORCHA, NY | WP | (Lat. 40°54′55.46″ N, long. 072°18′43.64″ W)
Calverton, NY (CCC) | VOR/DME | (Lat. 40°55′46.63″ N, long. 072°47′55.89″ W)
BELTT, NY | WP | (Lat. 41°03′48.61″ N, long. 072°59′13.52″ W)
EEGOR, CT | WP | (Lat. 41°09′38.94″ N, long. 073°07′27.66″ W)
LOVES, CT | FIX | (Lat. 41°32′19.64″ N, long. 073°29′17.14″ W)
PAWLN, NY | WP | (Lat. 41°46′11.51″ N, long. 073°36′02.64″ W)
CYPER, NY | FIX | (Lat. 42°06′32.37″ N, long. 074°16′25.52″ W)
CODDI, NY | FIX | (Lat. 42°22′52.15″ N, long. 075°00′21.84″ W)
LAMMS, NY | WP | (Lat. 43°01′35.30″ N, long. 075°09′51.50″ W)
SRNAC, NY | WP | (Lat. 44°23′05.00″ N, long. 074°12′16.11″ W)
RIGID, NY | WP | (Lat. 44°35′19.53″ N, long. 073°44′34.07″ W)
PBERG, NY | WP | (Lat. 44°42′06.25″ N, long. 073°31′22.18″ W)
LATTS, NY | WP | (Lat. 44°51′29.78″ N, long. 073°32′29.26″ W)
MUTNA, NY | WP | (Lat. 45°00′20.84″ N, long. 073°33′27.65″ W)
* * * * * * *

Issued in Washington, DC, on August 4, 2022.
Scott M. Rosenbloom,
Manager, Airspace Rules and Regulations.

[FR Doc. 2022-17209 Filed 8-12-22; 8:45 am]

BILLING CODE 4910-13-P